SMALL BUSINESS ADMINISTRATION

National Women's Business Council; Notice of Public Meeting

In accordance with the Federal Advisory Committee Act, 5 U.S.C. App 2, 10(a)(2) and Women's Business Ownership Act, Public Law 106-554 as amended, notice is hereby given that the National Women's Business Council (NWBC) will hold a public meeting. The meeting will be held on Thursday, March 13, 2008, from 8:30 a.m. until 12 p.m. at The Longaberger Company, 1500 E. Main Street, Newark, Ohio 43055. The issues to be discussed are the NWBC's fiscal year 2007 reports, the 2008 budget and projects, and the swearing-in of new members.

This meeting is open to the public, however, advance notice of attendance is requested. Anyone wishing to attend the Council meeting should contact Katherine Stanley no later than Friday March 7, 2008 by e-mail at Katherine.stanley@nwbc.gov or fax to 202-205-6825.

Anyone wishing to make a presentation to the Council during the meeting must contact Margaret M. Barton in writing, at the National Women's Business Council, 409 Third Street, SW., Suite 210, Washington, DC 20024, by e-mail at Margaret.barton@nwbc.gov or fax to 202-205-6825 by Friday March 7, 2008, in order to be put on the agenda.

Cherylyn LeBon,
Assistant Administrator for Intergovernmental Affairs, SBA Committee Management Officer.

[FR Doc. E8-3617 Filed 2-25-08; 8:45 am]

BILLING CODE 8025-01-P